PEACE CORPS

Privacy Act of 1974; Report of an Altered System of Records

AGENCY: Peace Corps.

ACTION: Notice to revise two existing systems of records.

SUMMARY: In accordance with the requirements of the Privacy Act of 1974, as amended, 5 U.S.C. 552a, the Peace Corps proposes to revise two existing systems of records: Volunteer Applicant and Service Records System (PC-17) and Former Peace Corps Volunteer and Staff Database (PC-18). The purpose of these alterations is to add a new routine use to each SORN. The Peace Corps considers certain information about individual Volunteers/Trainees to be “public information.” The new routine use will allow the Peace Corps to disclose the “public information” as it deems appropriate.

DATES: The revisions to both systems will become effective September 2, 2014 without further action, unless adverse comments are received by Peace Corps by August 15, 2014.

ADDRESSES: You may submit comments by email to pcfr@peacecorps.gov. Include Privacy Act System of Records in the subject line of the message. You may also submit comments by mail to Denora Miller, Privacy Act Officer, Peace Corps, 1111 20th Street NW., Washington, DC 20526. Contact Denora Miller for copies of comments.

FOR FURTHER INFORMATION CONTACT: Denora Miller, Privacy Act Officer, 202-692-1236, pcfr@peacecorps.gov.

SUPPLEMENTARY INFORMATION: The Peace Corps proposes to revise two existing systems of records: Volunteer Applicant and Service Records System (PC-17) and Former Peace Corps Volunteer and Staff Database (PC-18) to add a new routine use for each System of Records. As routine use “(n)” for PC-17 and as routine use “(c)” for PC-18, the new routine use will allow the Peace Corps to disclose certain information about current and former Volunteers/Trainees as “public information.” The public information is limited to: Name, country of service and dates of service for current and former Peace Corps Volunteers/Trainees. Requests for public information will be processed through the Freedom of Information Act (FOIA) office. If additional information is requested it will be processed in accordance with the FOIA. The Peace Corps may also disclose the information under these two routine uses to the public as it deems appropriate.

The Privacy Act, 5 U.S.C. 552a, provides that the public will be given a 30-day period in which to comment on the new system. The Office of Management and Budget (OMB), which has oversight responsibility under the Act, requires a 40-day period in which to review the proposed system. In accordance with 5 U.S.C. 552a, Peace Corps has provided a report on this system to OMB and the Congress. The Peace Corps is publishing changes which affect the public's right or need to know.

System name:

PC-17—Peace Corps, Volunteer Applicant and Service Records System.

Changes:

* * * * *

Routine Uses of Records Maintained in the System, Including Categories of Users and the Purposes of such Uses:

After specific Routine Use (m) add specific Routine Use (n) stating, “Regarding the name, country of service and dates of service for current and former Peace Corps Volunteers/Trainees: This information is considered public information and may be disclosed to any person upon request and to the public as the Peace Corps deems appropriate.”

* * * * *

System name:

PC-18—Peace Corps, Former Peace Corps Volunteers and Staff Database.

Changes:

* * * * *

Routine uses of records maintained in the system:

After specific Routine Use (b) add specific Routine Use (c) stating, “Regarding the name, country of service and dates of service for former Peace Corps Volunteers/Trainees: This information is considered public information and may be disclosed to any person upon request and to the public as the Peace Corps deems appropriate.”

* * * * *

This notice is issued in Washington, DC, on July 10, 2014.
Garry W. Stanberry,
Acting Associate Director, Management.

[FR Doc. 2014-16676 Filed 7-15-14; 8:45 am]

BILLING CODE 6051-01-P